Title 3—

The President

Proclamation 9761 of May 31, 2018

National Homeownership Month, 2018

By the President of the United States of America

A Proclamation

During National Homeownership Month, we affirm the joy and benefits of homeownership. For millions of Americans, owning a home is an important step toward financial security and achieving the American Dream. My Administration is committed to fostering an economic environment in which every family has the opportunity to enjoy the sense of pride and stability that can come with owning a home.

Our Nation's economy is experiencing tremendous growth. I signed into law historic tax reform that cut taxes for middle class Americans and small businesses. My Administration has also slashed unnecessary and burdensome regulations that stunted economic growth. As a result of these actions, Americans are keeping more of their hard-earned paychecks, unemployment rates are at historic lows, and more Americans are entering the workforce. Consequently, owning a home is becoming more attainable for many Americans.

Numerous benefits are associated with homeownership. Owning a home gives Americans a place to call their own, and a place of comfort and safety where they can raise their families. Homeowners also support local businesses, have a strong vested interest in their communities, and foster bonds of friendship with others who live and work in their neighborhoods. A home is more than a place to live—it is also an investment in family, in community, and in the long-term prosperity of our great country.

This month, we celebrate those Americans whose success and determination have helped make them homeowners. Their dedication to their families and communities, and to achieving a brighter and more secure future, is an inspiration to each person who is pursuing their own American Dream.

NOW, THEREFORE, I, DONALD J. TRUMP, President of the United States of America, by virtue of the authority vested in me by the Constitution and the laws of the United States, do hereby proclaim June 2018 as National Homeownership Month.

IN WITNESS WHEREOF, I have hereunto set my hand this thirty-first day of May, in the year of our Lord two thousand eighteen, and of the Independence of the United States of America the two hundred and forty-second.

[FR Doc. 2018-12257

Filed 6-4-18; 11:15 am]

Billing code 3295-F8-P